DEPARTMENT OF COMMERCE

International Trade Administration

[A-570-970]

Multilayered Wood Flooring From the People's Republic of China: Preliminary Results of the Antidumping Duty Administrative Review and New Shipper Review, Preliminary Determination of No Shipments, and Rescission of Review, in Part; 2017-2018

AGENCY: Enforcement and Compliance, International Trade Administration, Department of Commerce.

SUMMARY: The Department of Commerce (Commerce) preliminarily determines that certain companies covered by the administrative review and new shipper reviews did not make sales of subject merchandise at prices below normal value (NV). We invite interested parties to comment on these preliminary results.

DATES: Applicable February 6, 2020.

FOR FURTHER INFORMATION CONTACT: Sergio Balbontin or Alexis Cherry, AD/CVD Operations, Office VIII, Enforcement and Compliance, International Trade Administration, U.S. Department of Commerce, 1401 Constitution Avenue NW, Washington, DC 20230; telephone: (202) 482-6478 or (202) 482-0607, respectively.

SUPPLEMENTARY INFORMATION:

Background

Commerce is conducting an administrative review and an aligned new shipper review (NSR) of the antidumping duty order on multilayered wood flooring (MLWF) from the People's Republic of China (China). The period of review (POR) for both reviews is December 1, 2017 through November 30, 2018. The administrative review covers 99 companies, including two mandatory respondents: The Fusong Jinlong Group ¹ (Jinlong) and Jiangsu Guyu International Trade Co., Ltd. (Guyu). The new shipper review covers Muchsee Wood (Chuzhou) Co., Ltd. (Muchsee Wood). We preliminarily determine that sales of subject merchandise by Jinlong and Guyu have not been made at prices below NV.² We also preliminarily determine that a single sale of subject merchandise by Muchsee Wood has not been made at prices below NV.³ In addition, we are preliminarily granting separate rates to Jinlong, Guyu, Muchsee Wood and 54 producers/exporters, and determine that 21 producer/exporters made no shipments of subject merchandise during the POR. Finally, we are rescinding the review with respect to Jilin Forest Industry Jinqiao Flooring Group Co., Ltd. (Jinqiao Flooring).

¹ Commerce has previously indicated that Dalian Qianqiu Wooden Product Co., Ltd. (Dalian Qianqiu), Fusong Jinlong Wooden Group Co., Ltd. (Fusong Jinlong), Fusong Jinqiu Wooden Product Co., Ltd. (Fusong Jinqiu), and Fusong Qianqiu Wooden Product Co., Ltd. (Fusong Qianqiu) are collectively known as the “Fusong Jinlong Group.” See e.g., Multilayered Wood Flooring from the People's Republic of China: Final Results of Antidumping Duty Administrative Review; 2011-2012, 79 FR 26712 (May 9, 2014) at n.14. We are addressing the status of these companies in a preliminary affiliation and collapsing analysis memorandum based on information on the record of this administrative review. See Memorandum, “Decision Memorandum for the Preliminary Results in the Antidumping Duty Administrative Review and New Shipper Review: Multilayered Wood Flooring from the People's Republic of China; 2017-2018” (Preliminary Decision Memorandum), dated concurrently with, and hereby adopted by, this notice, at the “Affiliation and Single Entity” section.

² See Preliminary Decision Memorandum.

³ Id.

Scope of the Order 4

⁴ See Multilayered Wood Flooring from the People's Republic of China: Notice of Amended Final Affirmative Determination of Sales at Less than Fair Value and Antidumping Duty Order, 76 FR 76690 (December 8, 2011), as amended in Multilayered Wood Flooring from the People's Republic of China: Amended Antidumping and Countervailing Duty Orders, 77 FR 5484 (February 3, 2012) (collectively, Order).

The product covered by the Order is MLWF from China. For a complete description of the scope of this administrative review, see the Preliminary Decision Memorandum.

Partial Rescission of Review

Commerce initiated a review of 99 companies in this administrative review ⁵ and one company in this new shipper review.⁶ Shenzhenshi Huanwei Woods Co., Ltd. (Huanwei Woods) and Jinqiao Flooring submitted timely requests to withdraw from the administrative review.⁷ No other parties requested a review of Jinqiao Flooring; however, the American Manufacturers of Multilayered Wood Flooring (the petitioners) requested a review of Huanwei Woods.⁸ Accordingly, Commerce is rescinding the administrative review only with respect to Jinqiao Flooring.⁹

⁵ See Initiation of Antidumping and Countervailing Duty Administrative Reviews, 84 FR 9297 (March 14, 2019) (First Initiation Notice); see also Initiation of Antidumping and Countervailing Duty Administrative Reviews, 84 FR 12200 (April 1, 2019); Initiation of Antidumping and Countervailing Duty Administrative Reviews, 84 FR 18777 (May 2, 2019); and Initiation of Antidumping and Countervailing Duty Administrative Reviews, 85 FR 3014 (January 17, 2020), correcting the First Initiation Notice (collectively, Initiation Notices).

⁶ See Multilayered Wood Flooring from the People's Republic of China: Initiation of Antidumping Duty New Shipper Review; 2017-2018, 84 FR 9494 (March 15, 2019).

⁷ See Huanwei Woods' Letter, “Multilayered Wood Flooring from People's Republic of China: Notice of Withdrawal of Counsel and Withdrawal of Request for 2017-2018 Administrative Review,” dated May 9, 2019; see also Jinqiao Flooring's Letter, “Multilayered Wood Flooring from the People's Republic of China: 7th Administrative Review; Withdrawal of Administrative Review Request,” dated June 12, 2019.

⁸ See Petitioners' Letter, “Multilayered Wood Flooring from the People's Republic of China: Request for Administrative Review,” dated December 31, 2018.

⁹ See 19 CFR 351.213(d)(1).

Preliminary Determination of No Shipments

Based on an analysis of information from U.S. Customs and Border Protection (CBP), no shipment certifications, and other record information, we preliminarily determine that 21 companies had no shipments of subject merchandise during the POR.¹⁰ For additional information regarding this determination, see the Preliminary Decision Memorandum. Consistent with our practice in non-market economy (NME) cases, we are not rescinding this administrative review with respect to these companies but, rather, intend to complete the review and issue appropriate instructions to CBP based on the final results of the review.¹¹

¹⁰ See Appendix II for a list of these companies.

¹¹ See Non-Market Economy Antidumping Proceedings: Assessment of Antidumping Duties, 76 FR 65694, 65694-95 (October 24, 2011) (NME AD Assessment) and the “Assessment Rates” section, below.

Separate Rates

We preliminarily determine that, in addition to Jinlong and Guyu, 54 companies not individually examined are eligible for separate rates in this administrative review.¹² We also preliminarily determine that Muchsee Wood is eligible for a separate rate in this new shipper review.

¹² See Preliminary Decision Memorandum at 11-15, for more details.

The statute and Commerce's regulations do not address the establishment of a separate rate to be applied to companies not selected for individual examination when Commerce limits its examination in an administrative review pursuant to section 777A(c)(2) of the Tariff Act of 1930, as amended (the Act). Generally, Commerce looks to section 735(c)(5) of the Act, which provides instructions for calculating the all-others rate in an investigation, for guidance when calculating the rate for separate-rate respondents which Commerce did not examine individually in an administrative review. For the preliminary results of this administrative review, Commerce has determined the estimated dumping margins for Jinlong and Guyu to be zero.¹³ Because this is the only calculated POR margin available and in light of Albemarle Corp. v. United States, we are assigning this rate to all eligible non-selected respondents who qualify for a separate rate in this administrative review.¹⁴

¹³ See Memoranda, “Preliminary Results Margin Calculation for the Fusong Jinlong Group” and “Preliminary Results Margin Calculation for Jiangsu Guyu International Trading Co., Ltd.,” both dated concurrently with this notice; see also Preliminary Decision Memorandum.

¹⁴ See Albemarle Corp. v. United States, 821 F.3d 1345 (Fed. Cir. 2016); see also Preliminary Decision Memorandum at the “Weighted-Average Dumping Margin for Non-Examined Separate-Rate Companies in the Administrative Review” section, for more details.

The China-Wide Entity

Commerce's policy regarding conditional review of the China-wide entity applies to this administrative review.¹⁵ Under this policy, the China-wide entity will not be under review unless a party specifically requests, or Commerce self-initiates, a review of the entity. Because no party requested a review of the China-wide entity, the entity is not under review, and the entity's rate is not subject to change.

¹⁵ See Antidumping Proceedings: Announcement of Change in Department Practice for Respondent Selection in Antidumping Duty Proceedings and Conditional Review of the Nonmarket Economy Entity in NME Antidumping Duty Proceedings, 78 FR 65963 (November 4, 2013).

Aside from the companies we preliminarily find made no shipments and the company for which the review is being rescinded, Commerce considers all other companies for which a review was requested and which did not demonstrate separate rate eligibility to be part of the China-wide entity.¹⁶ For the preliminary results of this review, we consider 18 companies to be part of the China-wide entity. For additional information, see the Preliminary Decision Memorandum.

¹⁶ See Initiation Notices (“All firms listed below that wish to qualify for separate rate status in the administrative reviews involving NME countries must complete, as appropriate, either a separate rate application or certification, as described below.”) Companies that are subject to this administrative review that are considered to be part of the China-wide entity are listed in Appendix II.

Methodology

We are conducting these reviews in accordance with sections 751(a)(1)(B) and 751(a)(2)(B) of the Act and 19 CFR 351.213 and 351.214. We calculated export prices for Jinlong, Guyu, and Muchsee Wood in accordance with section 772(a) of the Act. Because China is an NME within the meaning of section 771(18) of the Act, we calculated NV in accordance with section 773(c) of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov and in the Central Records Unit, Room B8024 of the main Commerce building. In addition, a complete version of the Preliminary Decision Memorandum can be accessed directly on the internet at http://enforcement.trade.gov/frn/index.html. The signed Preliminary Decision Memorandum and the electronic version of the Preliminary Decision Memorandum are identical in content. A list of topics discussed in the Preliminary Decision Memorandum is included as Appendix I to this notice.

Preliminary Results of the Administrative Review

We preliminarily determine that the following weighted-average dumping margins exist for the administrative review covering the period December 1, 2017 through November 30, 2018:

Exporters | Weighted-average dumping margin (percent)
The Fusong Jinlong Group | 0.00
Jiangsu Guyu International Trading Co., Ltd | 0.00
A&W (Shanghai) Woods Co., Ltd | 0.00
Anhui Longhua Bamboo Product Co., Ltd | 0.00
Benxi Wood Company | 0.00
Dalian Dajen Wood Co., Ltd | 0.00
Dalian Deerfu Wooden Product Co., Ltd | 0.00
Dalian Jiahong Wood Industry Co., Ltd | 0.00
Dalian Kemian Wood Industry Co., Ltd | 0.00
Dalian Penghong Floor Products Co., Ltd | 0.00
Dalian Shengyu Science And Technology Development Co., Ltd | 0.00
Dalian Shumaike Floor Manufacturing Co., Ltd | 0.00
Dalian T-Boom Wood Products Co., Ltd | 0.00
Dongtai Fuan Universal Dynamics, LLC | 0.00
Dunhua City Dexin Wood Industry Co., Ltd | 0.00
Dunhua City Hongyuan Wood Industry Co., Ltd | 0.00
Dunhua City Wanrong Wood Industry Co., Ltd | 0.00
Dun Hua Sen Tai Wood Co., Ltd | 0.00
Dunhua Shengda Wood Industry Co., Ltd | 0.00
Guangzhou Panyu Southern Star Co., Ltd | 0.00
HaiLin LinJing Wooden Products, Ltd | 0.00
Hangzhou Hanje Tec Company Limited | 0.00
Hunchun Xingjia Wooden Flooring Inc | 0.00
Huzhou Chenghang Wood Co., Ltd | 0.00
Huzhou Fulinmen Imp. & Exp. Co., Ltd | 0.00
Huzhou Sunergy World Trade Co., Ltd | 0.00
Jiangsu Keri Wood Co., Ltd | 0.00
Jiangsu Mingle Flooring Co., Ltd | 0.00
Jiangsu Senmao Bamboo and Wood Industry Co., Ltd | 0.00
Jiangsu Simba Flooring Co., Ltd | 0.00
Jiashan HuiJiaLe Decoration Material Co., Ltd | 0.00
Jiaxing Hengtong Wood Co., Ltd | 0.00
Jilin Xinyuan Wooden Industry Co., Ltd | 0.00
Karly Wood Product Limited | 0.00
Kember Flooring, Inc | 0.00
Kemian Wood Industry (Kunshan) Co., Ltd | 0.00
Lauzon Distinctive Hardwood Flooring, Inc | 0.00
Linyi Youyou Wood Co., Ltd | 0.00
Metropolitan Hardwood Floors, Inc | 0.00
Mudanjiang Bosen Wood Industry Co., Ltd | 0.00
Nakahiro Jyou Sei Furniture (Dalian) Co., Ltd | 0.00
Omni Arbor Solutions Co., Ltd | 0.00
Pinge Timber Manufacturing (Zhejiang) Co., Ltd | 0.00
Power Dekor Group Co., Ltd | 0.00
Scholar Home (Shanghai) New Material Co., Ltd | 0.00
Shenyang Haobainian Wooden Co., Ltd | 0.00
Sino-Maple (Jiangsu) Co., Ltd | 0.00
Suzhou Dongda Wood Co., Ltd | 0.00
Tongxiang Jisheng Import and Export Co., Ltd | 0.00
Xuzhou Shenghe Wood Co., Ltd | 0.00
Yekalon Industry Inc | 0.00
Yihua Lifestyle Technology Co., Ltd, (successor-in-interest to Guangdong Yihua Timber Industry Co., Ltd) | 0.00
Zhejiang Dadongwu Green Home Wood Co., Ltd | 0.00
Zhejiang Fuerjia Wooden Co., Ltd | 0.00
Zhejiang Longsen Lumbering Co., Ltd | 0.00
Zhejiang Shiyou Timber Co., Ltd | 0.00

Preliminary Results of the New Shipper Review

We preliminarily determine that the following weighted-average dumping margin exists for the new shipper review covering the period December 1, 2017 through November 30, 2018:

Exporter | Producer | Weighted-average dumping margin (percent)
Muchsee Wood (Chuzhou) Co., Ltd | Muchsee Wood (Chuzhou) Co., Ltd | 0.00

Disclosure and Public Comment

We intend to disclose to interested parties the calculations performed for these preliminary results within five days of the date of publication of this notice in accordance with 19 CFR 351.224(b). Interested parties may submit case briefs no later than 30 days after the date of publication of these preliminary results of review.¹⁷ Rebuttals to case briefs may be filed no later than five days after the written comments are filed, and all rebuttal comments must be limited to comments raised in the case briefs.¹⁸

¹⁷ See 19 CFR 351.309(c).

¹⁸ See 19 CFR 351.309(d).

Pursuant to 19 CFR 351.309(c)(2) and (d)(2), parties who submit case briefs or rebuttal briefs in this review are encouraged to submit with each argument: (1) A statement of the issue; (2) a brief summary of the argument; and (3) a table of authorities.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, we intend to hold the hearing at the U.S. Department of Commerce, 1401 Constitution Avenue NW, Washington, DC 20230, at a time and date to be determined. Parties should confirm by telephone the date, time, and location of the hearing two days before the scheduled date.

Unless otherwise extended, we intend to issue the final results of these reviews, which will include the results of our analysis of the issues raised in the case briefs, within 120 days of publication of these preliminary results in the Federal Register, pursuant to section 751(a)(3)(A) of the Act and 19 CFR 351.213(h).

Assessment Rates

Upon issuance of the final results, Commerce will determine, and CBP shall assess, antidumping duties on all appropriate entries covered by these reviews, in accordance with 19 CFR 351.212(b). For the companies for which the administrative review is rescinded, antidumping duties shall be assessed at rates equal to the cash deposit of estimated antidumping duties required at the time of entry, or withdrawal from warehouse, for consumption, in accordance with 19 CFR 351.212(c)(1)(i). We intend to issue appropriate assessment instructions with respect to the companies for which this administrative review is rescinded to CBP 15 days after the publication of this notice.

For any individually examined respondent whose (estimated) ad valorem weighted-average dumping margin is not zero or de minimis (i.e., less than 0.50 percent) in the final results of this review, Commerce will calculate importer-specific assessment rates on the basis of the ratio of the total amount of dumping calculated for the importer's examined sales and the total quantity of those sales, in accordance with 19 CFR 351.212(b)(1).¹⁹ Commerce will also calculate (estimated) ad valorem importer-specific assessment rates with which to assess whether the per-unit assessment rate is de minimis. We will instruct CBP to assess antidumping duties on all appropriate entries covered by this review when the importer-specific ad valorem assessment rate calculated in the final results of this review is not zero or de minimis. If the individually examined respondents' ad valorem weighted-average dumping margins continue to be zero or de minimis in the final results, or an importer-specific ad valorem assessment rate is zero or de minimis,²⁰ we will instruct CBP to liquidate the appropriate entries without regard to antidumping duties.

¹⁹ In these preliminary results, Commerce applied the assessment rate calculation method adopted in Antidumping Proceedings: Calculation of the Weighted-Average Dumping Margin and Assessment Rate in Certain Antidumping Proceedings: Final Modification, 77 FR 8101 (February 14, 2012).

²⁰ See 19 CFR 351.106(c)(2).

For the respondents that were not selected for individual examination in this administrative review that qualified for a separate rate, the assessment rate will be the separate rate established in the final results of this administrative review. If, in the final results, this rate continues to be zero or de minimis (i.e., less than 0.5 percent), Commerce will instruct CBP to liquidate the appropriate entries without regard to antidumping duties.

For entries that were not reported in the U.S. sales databases submitted by the individually examined respondent, and for the 18 companies that did not qualify for a separate rate in the administrative review, Commerce will instruct CBP to liquidate such entries at the China-wide rate (i.e., 85.13 percent).²¹ In addition, if we continue to find in the final results no shipments of subject merchandise for the companies for which we preliminarily find no such shipments during the POR,²² Commerce will instruct CBP to liquidate any suspended entries of subject merchandise from those companies at the China-wide rate, with the exception of certain entries from Yingyi-Nature and Changzhou Hawd that Commerce will identify in appropriate instructions to CBP.²³

²¹ See Multilayered Wood Flooring From the People's Republic of China: Final Results of Antidumping Duty Administrative Review and Final Determination of No Shipments; 2016-2017, 84 FR 38002, 38003 (August 5, 2019).

²² See Appendix II for a list of these companies.

²³ See Non-Market Economy Antidumping Proceedings: Assessment of Antidumping Duties, 76 FR 65694, 65695 (October 24, 2011); see also Preliminary Determination Memorandum at the ”Preliminary Determination of No Shipments” section.

Cash Deposit Requirements

The following cash deposit requirements will be effective upon publication of the final results of these reviews for all shipments of the subject merchandise from China entered, or withdrawn from warehouse, for consumption on or after the publication date, as provided for by section 751(a)(2)(C) of the Act: (1) For the companies listed above that have a separate rate, the cash deposit rate will be the established in the final results; (2) for previously investigated or reviewed Chinese and non-Chinese exporters for which a review was not requested and that received a separate rate in a prior segment of this proceeding, the cash deposit rate will continue to be the existing exporter-specific rate; (3) for all Chinese exporters of subject merchandise that have not been found to be entitled to a separate rate, the cash deposit rate will be the rate for the China-wide entity (i.e., 85.13 percent); and (4) for all non-China exporters of subject merchandise that have not received their own rate, the cash deposit rate will be the rate applicable to Chinese exporter that supplied that non-Chinese exporter. These cash deposit requirements, when imposed, shall remain in effect until further notice.

Notification to Importers

This notice also serves as a preliminary reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties.

We are issuing and publishing the preliminary results of these reviews in accordance with sections 751(a)(l), 751(a)(2)(B)(iv), 751(a)(3), and 777(i)(l) of the Act and 19 CFR 351.214 and 351.221(b)(4).

Dated: January 31, 2020.
Christian Marsh,
Deputy Assistant Secretary for Enforcement and Compliance.

Appendix I

List of Topics Discussed in the Preliminary Decision Memorandum

I. Summary

II. Background

III. Period of Review

IV. Scope of the Order

V. Selection of Respondents

VI. Partial Rescission of Review

VII. Preliminary Determination of No Shipments

VIII. Bona Fide Sale Analysis

IX. Discussion of the Methodology

X. Recommendation

Appendix II

No shipments

Anhui Yaolong Bamboo & Wood Products Co. Ltd.

Armstrong Wood Products (Kunshan) Co., Ltd.

Baroque Timber Industries (Zhongshan) Co., Ltd.

Benxi Flooring Factory (General Partnership)

Changzhou Hawd Flooring Co., Ltd.

Dunhua City Jisen Wood Industry Co., Ltd.

Fine Furniture (Fine Furniture (Shanghai) Limited and Double F Limited) ²⁴

Guangzhou Panyu Kangda Board Co., Ltd.

Hangzhou Zhengtian Industrial Co., Ltd.

Hunchun Forest Wolf Wooden Industry Co., Ltd.

Huzhou Jesonwood Co., Ltd.

Innomaster Home (Zhongshan) Co., Ltd.

Jiangsu Yuhui International Trade Co., Ltd.

Jiashan On-Line Lumber Co., Ltd.

Kingman Floors Co., Ltd.

Linyi Anying Wood Co., Ltd.

Shandong Longteng Wood Co., Ltd.

Shanghaifloor Timber (Shanghai) Co., Ltd.

Xuzhou Antop International Trade Co., Ltd.

Yingyi-Nature (Kunshan) Wood Industry Co., Ltd.

Zhejiang Shuimojiangnan New Material Technology Co., Ltd.

²⁴ Commerce is only reviewing entries where Fine Furniture (Shanghai) Limited and/or Double F Limited was the exporter but Fine Furniture (Shanghai) Limited was not the producer of subject merchandise.

China-Wide Entities

Anhui Boya Bamboo & Wood Products Co., Ltd.

Chinafloors Timber (China) Co., Ltd.

Dalian Guhua Wooden Product Co., Ltd.

Dalian Huade Wood Product Co., Ltd.

Dalian Huilong Wooden Products Co., Ltd.

Dalian Jaenmaken Wood Industry Co., Ltd.

Guangzhou Homebon Timber Manufacturing Co., Ltd.

Houzhou Chenchang Wood Co., Ltd.

Jiafeng Wood (Suzhou) Co., Ltd.

Linyi Bonn Flooring Manufacturing Co., Ltd.

Power Dekor North America Inc.

Shanghai Lairunde Wood Co., Ltd.

Shenzhenshi Huanwei Woods Co., Ltd.

Xiamen Yung De Ornament Co., Ltd.

Zhejiang Biyork Wood Co., Ltd.

Zhejiang Fudeli Timber Industry Co., Ltd

Zhejiang Jiechen Wood Industry Co., Ltd.

Zhejiang Simite Wooden Co., Ltd.

Rescissions

Jilin Forest Industry Jinqiao Flooring Group Co., Ltd.

[FR Doc. 2020-02360 Filed 2-5-20; 8:45 am]

BILLING CODE 3510-DS-P